DEPARTMENT OF THE INTERIOR

National Park Service

[NPS-WASO-NAGPRA-14761; PPWOCRADN0-PCU00RP14.R50000]

Notice of Inventory Completion: US Army Corps of Engineers, Tulsa District, Tulsa, OK

AGENCY: National Park Service, Interior.

ACTION: Notice.

SUMMARY: The US Army Corps of Engineers, Tulsa District, has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the US Army Corps of Engineers, Tulsa District. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the US Army Corps of Engineers, Tulsa District, at the address in this notice by March 7, 2014.

ADDRESSES: Michelle C. Horn, Archaeologist, US Army Corps of Engineers, Tulsa District, 1645 S. 101 E. Avenue, Tulsa, OK 74128-0061, telephone (918) 669-7642.

SUPPLEMENTARY INFORMATION: Notice is here given in accordance with the Native American Graves Protection and Repatriation Act (NAGPRA), 25 U.S.C. 3003, of the completion of an inventory of human remains and associated funerary objects under the control of the US Army Corps of Engineers, Tulsa District, and in the physical custody of the Sam Noble Oklahoma Museum of Natural History (SNOMNH). The human remains and associated funerary objects were removed from a site at Lake Texoma, in Bryan County, OK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was originally made by the SNOMNH professional staff, and more recently by the US Army Corps of Engineers, Tulsa District, professional staff, in consultation with representatives of The Chickasaw Nation.

History and Description of the Remains

In 1941, human remains representing, at minimum, two individuals were removed from the Opel Site (34BR4) in Bryan County, OK. The site was excavated as a Works Progress Administration (WPA) project and the collection was deposited at the Stovall Museum (now SNOMNH). Although SNOMNH originally consulted on the collection and have physical custody of the human remains and associated funerary objects, the collection was recently determined to be under the control of the US Army Corps of Engineers, Tulsa District. The human remains represent one child from Burial 1 and one adult from Burial 2. No known individuals were identified. The 70 associated funerary objects are from two separate burials. The 58 associated funerary objects from Burial 1 are 9 saucers, bowls, and plates; 3 ceramic cups; 5 spoons; 2 shoes; 1 iron cup; 1 lot of iron pail fragments; 1 china bowl; 1 broken glass; 1 small glass bottle; 1 lot of iron pieces; 29 small beads; 2 thimbles; 1 fork; and 1 knife. The 12 associated funerary objects from Burial 2 are 1 bead, 1 worked stone, 1 iron buckle, 2 glass disks, and 7 buttons.

Based on the types of materials found at the Opel Site including the associated funerary objects, it is reasonable to determine that the burials are historic and date to the late 19th century. At the time the burials were excavated in 1941, local residents could not recall a house being at that location and the site had been cultivated for approximately 40 years. The region in which the site is located was designated Chickasaw Territory in 1837, and historic documents and oral histories of the Chickasaw provide additional support that the region was occupied by their tribe during the 19th century. Consultation with representatives of The Chickasaw Nation confirms that the associated funerary objects are the types and quantities of materials that are found with Chickasaw burials from this time period.

Determinations Made by the US Army Corps of Engineers, Tulsa District

Officials of the US Army Corps of Engineers, Tulsa District, have determined that:

• Pursuant to 25 U.S.C. 3001(9), the human remains described in this notice represent the physical remains of two individuals of Native American ancestry.

• Pursuant to 25 U.S.C. 3001(3)(A), the 70 objects described in this notice are reasonably believed to have been placed with or near individual human remains at the time of death or later as part of the death rite or ceremony.

• Pursuant to 25 U.S.C. 3001(2), there is a relationship of shared group identity that can be reasonably traced between the Native American human remains and associated funerary objects and The Chickasaw Nation.

Additional Requestors and Disposition

Lineal descendants or representatives of any Indian tribe or Native Hawaiian organization not identified in this notice that wish to request transfer of control of these human remains and associated funerary objects should submit a written request with information in support of the request to Michelle C. Horn, Archaeologist, US Army Corps of Engineers, Tulsa District, 1645 S. 101 E. Avenue, Tulsa, OK 74128-0061, telephone (918) 669-7642, by March 7, 2014. After that date, if no additional requestors have come forward, transfer of control of the human remains and associated funerary objects to The Chickasaw Nation may proceed.

The US Army Corps of Engineers, Tulsa District, is responsible for notifying The Chickasaw Nation that this notice has been published.

Dated: January 2, 2014.
Mariah Soriano,
Acting Manager, National NAGPRA Program.

[FR Doc. 2014-02300 Filed 2-4-14; 8:45 am]

BILLING CODE 4312-50-P